DEPARTMENT OF HOMELAND SECURITY

U.S. Citizenship and Immigration Services

[CIS No. 2600-17; DHS Docket No. USCIS-2008-0034]

RIN 1615-ZB65

Automatic Extension of Employment Authorization Documentation for Beneficiaries Under El Salvador's Designation for Temporary Protected Status

AGENCY: U.S. Citizenship and Immigration Services, Department of Homeland Security.

ACTION: Notice; extension of Employment Authorization Documents validity date.

SUMMARY: On July 8, 2016, the Secretary of Homeland Security (Secretary) extended the designation of El Salvador for Temporary Protected Status (TPS) for a period of 18 months by notice in the Federal Register. Through the same notice, the Department of Homeland Security (DHS) automatically extended for 6 months the validity of Employment Authorization Documents (EADs) issued under the TPS designation of El Salvador with a September 9, 2016 expiration date printed on the card. These EADs are currently valid through March 9, 2017. USCIS is now automatically extending the validity of these EADs for an additional 6 months, through September 9, 2017.

DATES: The automatic extension of the validity of EADs issued under TPS for El Salvador that was set to expire on March 9, 2017, is now extended through September 9, 2017.

FOR FURTHER INFORMATION CONTACT:

• For further information on TPS, including guidance on the application process and additional information on eligibility, please visit the USCIS TPS Web page at http://www.uscis.gov/tps. You can find specific information about El Salvador's designation for TPS by selecting “El Salvador” from the menu on the left of the TPS Web page.

• You can also contact Guillermo Roman-Riefkohl, TPS Operations Program Manager, Service Center Operations Directorate, U.S. Citizenship and Immigration Services, Department of Homeland Security, 20 Massachusetts Avenue NW., Washington, DC 20529-2060; or by phone at 202-272-1533 (this is not a toll-free number). Note: The phone number provided here is solely for questions regarding this TPS Notice. It is not for individual case status inquires.

• Applicants seeking information about the status of their individual cases can check Case Status Online, available at the USCIS Web site at http://www.uscis.gov, or call the USCIS National Customer Service Center at 800-375-5283 (TTY 800-767-1833). Service is available in English and Spanish.

• Further information will also be available at local USCIS offices upon publication of this Notice.

SUPPLEMENTARY INFORMATION:

When did the Secretary last extend El Salvador's TPS designation?

On July 8, 2016, the Secretary extended the TPS designation for El Salvador for a period of 18 months by notice in the Federal Register. See 81 FR 44645. That extension of El Salvador's TPS designation is effective from September 10, 2016 through March 9, 2018.

Is the Secretary extending El Salvador's TPS designation through this Notice?

No. This Notice does not extend El Salvador's TPS designation past the existing March 9, 2018 expiration date of the current extension announced on July 8, 2016. This Notice also does not extend the re-registration period for existing TPS El Salvador beneficiaries under the extension announced on July 8, 2016, which ran from July 8, 2016 through September 6, 2016.

What is the effect of this Notice on the validity of EADs issued under TPS for El Salvador?

DHS previously extended for 6 months all EADs issued under TPS for El Salvador that currently display an expiration date of September 9, 2016; they currently expire on March 9, 2017. U.S. Citizenship and Immigration Services (USCIS) does not expect to be able to process all timely-received TPS re-registration applications and issue new EADs before these extended EADs expire. Accordingly, through this Notice, USCIS automatically extends the validity of EADs issued under the TPS designation of El Salvador for an additional 6 months, through September 9, 2017.

Am I eligible to receive an additional automatic 6-month extension of my current EAD through September 9, 2017?

If you currently have TPS under the designation of El Salvador, this Notice automatically extends your EAD an additional 6 months through September 9, 2017, if you:

• Received an EAD under the last extension of TPS for El Salvador; and

• Have an EAD with a marked expiration date of September 9, 2016, bearing the notation “A-12” or “C-19”on the front of the card under “Category.”

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization) or one document from List B (reflecting identity) together with one document from List C (reflecting employment authorization). Or you may present an acceptable receipt for List A, List B, or List C documents as described in the Employment Eligibility Verification (Form I-9) Instructions. An EAD is an acceptable document under “List A.” Employers may not reject a document based on a future expiration date.

If your EAD has an expiration date of September 9, 2016, and states “A-12” or “C-19” under “Category,” it has been extended automatically beyond the previous automatic extension for an additional 6 months. It is now valid through September 9, 2017, by virtue of this Federal Register Notice, and you may choose to present your EAD to your employer as proof of identity and employment authorization for Employment Eligibility Verification (Form I-9) through September 9, 2017 (see the subsection titled “How do my employer and I complete the Employment Eligibility Verification (Form I-9) using an automatically extended EAD for a new job?” for further information). To minimize confusion over this extension at the time of hire, you should explain to your employer that USCIS automatically extended your EAD through September 9, 2017. You may also show your employer a copy of this Federal Register Notice confirming the automatic extension of employment authorization through September 9, 2017. As an alternative to presenting your automatically extended EAD, you may choose to present any other acceptable document from List A, a combination of one selection from List B and one selection from List C, or a valid receipt.

What documentation may I show my employer if I am already employed but my current TPS-related EAD is expired?

Even though EADs with an expiration date of September 9, 2016, that state “A-12” or “C-19” under “Category” have been automatically extended through September 9, 2017, your employer may need to ask you about your continued employment authorization after March 9, 2017, in order to meet his or her responsibilities for Employment Eligibility Verification (Form I-9). Your employer may need to re-inspect your automatically extended EAD to check the expiration date and code to record the updated expiration date on your Form I-9 if he or she did not keep a copy of this EAD when you initially presented it. However, your employer does not need a new document to reverify your employment authorization until September 9, 2017, the expiration date of the additional automatic extension. Instead, you and your employer must make corrections to the employment authorization expiration dates in Section 1 and Section 2 of Employment Eligibility Verification (Form I-9) (see the subsection titled “What corrections should my current employer and I make to Employment Eligibility Verification (Form I-9) if my EAD has been automatically extended?” for further information). In addition, you may also show this Federal Register Notice to your employer to explain what to do for Employment Eligibility Verification (Form I-9).

By September 9, 2017, the expiration date of the additional automatic extension, your employer must reverify your employment authorization. At that time, you must present any document from List A or any document from List C on Employment Eligibility Verification (Form I-9) to reverify employment authorization, or an acceptable List A or List C receipt described in the Employment Eligibility Verification (Form I-9) Instructions. Your employer should:

• Complete Section 3 of the Employment Eligibility Verification (Form I-9) originally completed for you; or

• If Section 3 has already been completed or if the version of Employment Eligibility Verification (Form I-9) has expired (check the date in the upper right-hand corner of the form), complete Section 3 of a new Employment Eligibility Verification (Form I-9) using the most current version.

Note that employers may not specify which List A or List C document employees must present, and cannot reject an acceptable receipt.

Can my employer require that I produce any other documentation to prove my status, such as proof of my Salvadoran citizenship?

No. When completing Employment Eligibility Verification (Form I-9), including reverifying employment authorization, employers must accept any documentation that appears on the “Lists of Acceptable Documents” for Employment Eligibility Verification (Form I-9) that reasonably appears to be genuine and that relates to you, or an acceptable List A, List B, or List C receipt. Employers may not request documentation that does not appear on the “Lists of Acceptable Documents.” Therefore, employers may not request proof of Salvadoran citizenship or proof of re-registration for TPS when completing Employment Eligibility Verification (Form I-9) for new hires or correcting expiration dates for automatically extended EADs or reverifying the employment authorization of current employees. If presented with EADs that have been automatically extended, employers should accept such EADs as valid List A documents so long as the EADs reasonably appear to be genuine and to relate to the employee. Refer to the Note to Employees section of this Notice for important information about your rights if your employer rejects lawful documentation, requires additional documentation, or otherwise discriminates against you based on your citizenship or immigration status, or your national origin.

What happens after September 9, 2017, for purposes of employment authorization?

After September 9, 2017, employers may no longer accept the EADs that this Federal Register Notice automatically extended. Before that time, however, USCIS will endeavor to issue new EADs to eligible TPS re-registrants who request them. These new EADs will have an expiration date of March 9, 2018, and can be presented to your employer for completion of Employment Eligibility Verification (Form I-9). Alternatively, you may choose to present any other legally acceptable document or combination of documents listed on the Employment Eligibility Verification (Form I-9).

How do my employer and I complete Employment Eligibility Verification (Form I-9) using an automatically extended EAD for a new job?

When using an automatically extended EAD to complete Employment Eligibility Verification (Form I-9) for a new job prior to September 9, 2017, you and your employer should do the following:

1. For Section 1, you should:

a. Check “An alien authorized to work”;

b. Write your alien number (USCIS number or A-Number) in the first space (your EAD or other document from DHS will have your USCIS number or A-Number printed on it; the USCIS number is the same as your A-Number without the A prefix); and

c. Write the automatically extended EAD expiration date (September 9, 2017) in the second space.

2. For Section 2, employers should record the:

a. Document title;

b. Document number; and

c. Automatically extended EAD expiration date (September 9, 2017).

By September 9, 2017, employers must reverify the employee's employment authorization in Section 3 of the Employment Eligibility Verification (Form I-9).

What corrections should my current employer and I make to Employment Eligibility Verification (Form I-9) if I am using my automatically extended EAD to prove my employment eligibility?

If you are an existing employee who presented a TPS-related EAD that was valid when you first started your job, but that EAD has now been automatically extended, your employer may need to re-inspect your automatically extended EAD if your employer does not have a copy of the EAD on file. You and your employer should correct your previously completed Employment Eligibility Verification (Form I-9) as follows:

1. For Section 1, you should:

a. Draw a line through the expiration date;

b. Write “September 9, 2017” above the previous date;

c. Write “TPS Ext.” in the margin of Section 1; and

d. Initial and date the correction in the margin of Section 1.

2. For Section 2, employers should:

a. Draw a line through the expiration date written in Section 2;

b. Write “September 9, 2017” above the previous date;

c. Write “TPS Ext.” in the Additional Information field of Section 2; and

d. Initial and date the correction in the margin of Section 2.

By September 9, 2017, when the automatic extension of EADs expires, employers relying on an automatically extended EAD for proof of employment eligibility must reverify the employee's employment authorization in Section 3.

If I am an employer enrolled in E-Verify, what do I do when I receive a “Work Authorization Documents Expiration” alert for an automatically extended EAD?

If you have an employee who is a TPS beneficiary who provided a TPS-related EAD when he or she first started working for you, you will receive a “Work Authorization Documents Expiring” case alert when the auto-extension period for this EAD is about to expire. If relying on an automatically extended EAD for proof of employment eligibility, by September 9, 2017, you must reverify employment authorization in Section 3. Employers should not use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification process, employers may also call the U.S. Department of Justice, Immigrant and Employee Rights Section (IER) (formerly, the Office of Special Counsel for Immigration-Related Unfair Employment Practices) Employer Hotline at 800-255-8155 (TTY 800-237-2515), which offers language interpretation in numerous languages. Employers may also email IER at IER@usdoj.gov; IER accepts email messages written in any language.

Note to Employees

For general questions about the employment eligibility verification process, employees may call USCIS at 888-897-7781 (TTY 877-875-6028) or email at I-9Central@dhs.gov. Calls are accepted in English and many other languages. Employees or applicants may also call the IER Worker Information Hotline at 800-255-7688 (TTY 800-237-2515) for information regarding employment discrimination based upon citizenship status, immigration status, or national origin; for information regarding discrimination related to Employment Eligibility Verification (Form I-9) and E-Verify; and for information about how to file a complaint alleging immigration-related employment discrimination. The IER Worker Information Hotline provides language interpretation in numerous languages. Employees may also email IER at IER@usdoj.gov; IER accepts email messages written in any language.

To comply with the law, employers must accept any document or combination of documents from the Lists of Acceptable Documents if the documentation reasonably appears to be genuine and to relate to the employee, or an acceptable List A, List B, or List C receipt described in the Employment Eligibility Verification (Form I-9) Instructions. Employers may not require extra or additional documentation beyond what is required for Employment Eligibility Verification (Form I-9) completion. Further, employers participating in E-Verify who receive an E-Verify case result of “Tentative Nonconfirmation (TNC)” must promptly inform employees of the TNC and give such employees an opportunity to contest the TNC. A TNC case result means that the information entered into E-Verify from Employment Eligibility Verification (Form I-9) differs from Federal or state government records.

Employers may not terminate, suspend, delay training, withhold pay, lower pay, or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). An employee that believes he or she was discriminated against by an employer in the E-Verify process based on citizenship, immigration status, or national origin should contact IER's Worker Information Hotline at 800-255-7688 (TTY 800-237-2515) for information about their rights and how to file a complaint against the employer. Additional information about proper nondiscriminatory Employment Eligibility Verification (Form I-9) and E-Verify procedures is available on the IER Web site at https://www.justice.gov/ier and the USCIS Web site at http://www.dhs.gov/E-verify.

Note Regarding Federal, State, and Local Government Agencies (Such as Departments of Motor Vehicles)

Benefit-granting agencies are bound by different laws, requirements, and determinations about what documents their applicants must provide to prove eligibility for certain benefits. Whether you are applying for a Federal, state, or local government benefit, you may need to provide the government agency with documents that show you are a TPS beneficiary and/or show you are authorized to work based on TPS. Examples are:

1. Your unexpired EAD that has been automatically extended or your EAD that has not expired;

2. A copy of this Federal Register Notice if your EAD is automatically extended under this Notice;

3. A copy of your Application for Temporary Protected Status Notice of Action (Form I-797) for this re-registration;

4. A copy of your past or current Application for Temporary Protected Status Notice of Action (Form I-797), if you received one from USCIS; and/or

5. If there is an automatic extension of work authorization, a copy of the fact sheet from the USCIS TPS Web site that provides information on the automatic extension.

Check with the government agency regarding which document(s) the agency will accept. You may also provide the agency with a copy of this Federal Register Notice.

Some benefit-granting agencies use the USCIS Systematic Alien Verification for Entitlements Program (SAVE) to verify the current immigration status of applicants for public benefits. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found at the SAVE Web site at http://www.uscis.gov/save, then choosing “SAVE Resources” from the menu on the left, selecting “Benefit Applicants” in the middle of the page, then selecting “Publications,” and finally “SAVE Fact Sheet for Benefit Applicants.”

Lori Scialabba,
Acting Director.

[FR Doc. 2017-04454 Filed 3-2-17; 4:15 pm]

BILLING CODE 9111-97-P